DEPARTMENT OF COMMERCE

Bureau of Industry and Security

15 CFR Parts 730 and 744

[Docket No. 130103004-4458-01]

RIN 0694-AF86

Addition of Certain Persons to the Entity List

AGENCY: Bureau of Industry and Security, Commerce.

ACTION: Final rule.

SUMMARY: This rule amends the Export Administration Regulations (EAR) by adding twenty-six persons under thirty-one entries to the Entity List (Supplement No. 4 to Part 744). The persons who are added to the Entity List have been determined by the U.S. Government to be acting contrary to the national security or foreign policy interests of the United States. These persons will be listed on the Entity List under the destinations of China, Hong Kong, Lebanon and the United Arab Emirates (U.A.E.). There are thirty-one entries for twenty-six persons because five persons are listed under multiple countries, resulting in the additional five entries. Specifically, those five additional entries cover two persons in Lebanon who also have addresses in the U.A.E., and three persons in Hong Kong who also have addresses in China.

In addition to the Entity List changes described above, this final rule updates the authority for part 730 (15 CFR part 730) because of the publication of the Notice of May 7, 2014, Continuation of the National Emergency With Respect to the Actions of the Government of Syria, which resulted in a change to the legal authority for part 730 of the EAR.

DATES: Effective Date: This rule is effective June 5, 2014.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List notifies the public about entities that have engaged in activities that could result in an increased risk of the diversion of exported, reexported or transferred (in-country) items to weapons of mass destruction (WMD) programs. Since its initial publication, grounds for inclusion on the Entity List have expanded to include activities sanctioned by the State Department and activities contrary to U.S. national security or foreign policy interests, including terrorism and export control violations involving abuse of human rights. Certain exports, reexports, and transfers (in-country) to entities identified on the Entity List require licenses from BIS and are usually subject to a policy of denial. The availability of license exceptions in such transactions is very limited. The license review policy for each entity is identified in the license review policy column on the Entity List and the availability of license exceptions is noted in the Federal Register notices adding persons to the Entity List. BIS places entities on the Entity List based on certain sections of part 744 (Control Policy: End-User and End-Use Based) of the EAR.

The End-user Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add twenty-six persons under thirty-one entries to the Entity List on the basis of § 744.11 (License requirements that apply to entities acting contrary to the national security or foreign policy interests of the United States) of the EAR. The thirty-one entries added to the Entity List consist of three entries in China, seven entries in Hong Kong, six entries in Lebanon, and fifteen in the U.A.E.

The ERC reviewed § 744.11(b) (Criteria for revising the Entity List) in making the determination to add these twenty-six persons to the Entity List. Under that paragraph, persons for whom there is reasonable cause to believe, based on specific and articulable facts, have been involved, are involved, or pose a significant risk of being or becoming involved in, activities that are contrary to the national security or foreign policy interests of the United States, and those acting on behalf of such persons, may be added to the Entity List. Paragraphs (b)(1) through (b)(5) of § 744.11 include an illustrative list of activities that could be contrary to the national security or foreign policy interests of the United States.

The twenty-six persons being added have been determined by the ERC to be involved in activities that are contrary to the national security or foreign policy interests of the United States, specifically the activities described under paragraphs (b)(1), (b)(2) and/or (b)(4) of § 744.11.

The ERC has determined that two persons being added to the Entity List under the destination of Hong Kong have been involved in activities contrary to the national security and foreign policy interests of the United States, specifically the activities described under paragraph (b)(4)(Preventing Accomplishment of an End-Use Check) of § 744.11 of the EAR. The ERC has reasonable cause to believe that Sinovac Technology Limited and Bing Lu have been involved in the reexport of sensitive U.S.-origin items to unauthorized end-users and have prevented the accomplishment of an end-use check by or on behalf of BIS.

The ERC also determined that the following nineteen persons being added to the Entity List under the destinations of Lebanon and the U.A.E. have been involved in activities contrary to the national security and foreign policy interests of the United States, specifically the activities described under paragraph (b)(1)(Supporting persons engaged in acts of terror) of § 744.11 of the EAR. The ERC has reasonable cause to believe that Lebanon-based New Intelcom, Power S.A.L., Zener Lebanon, and Wave Tech, as well as U.A.E.-based Wave Tech Computers, Wave Tech Group, Source Com, al Tawasul al Arabi Net Systems, Zener Marine, Zener Navcom, Zener One Net, Zener Electrical & Electronics, Zener Electronics Services, Ivan Desouza, Girish Purushothama, Taha Mansur and Ahmad Assad Fa'ur, as well as al Ajwa al Tiqniah, and Husayn Fa'ur have attempted to procure U.S. technology on behalf of persons involved in activities contrary to the national security and foreign policy interests of the United States. Specifically, these persons have been involved in supplying U.S.-origin items to persons designated by the Secretary of State as Foreign Terrorist Organizations without the required authorizations. Two of the persons, al Ajwa al Tiqniah and Husayn Fa'ur, are being listed under addresses in both Lebanon and the U.A.E. These two additional addresses account for the twenty-seventh and twenty-eighth entries for the twenty-six persons being added to the Entity List in this rule.

Finally, the ERC determined that the following five persons being added to the Entity List under the destinations of Hong Kong and China have engaged in actions contrary to the national security and foreign policy interests of the United States, specifically the activities described under paragraph (b)(2) of § 744.11 of the EAR (Actions that could enhance the military capability of, or the ability to support terrorism of governments that have been designated by the Secretary of State as having repeatedly provided support for international acts of terrorism). Specifically, these persons have engaged in actions that could enhance the capabilities of the Syrian government. These persons are also being added because their overall conduct and deceptive practices pose a risk of ongoing violations of the EAR. These persons, Kinglead Electronic Co., Ltd., JLD Technology Hong Kong Co., Ltd., Synergy Express Ltd., BVI Electronics and Alpha Lam, participated in a complex and layered network that diverted U.S. origin items through China and Hong Kong and engaged in deceptive actions, including shifting/circuitous routes and false or omitted information on shipping documentation, in an attempt to conceal their activities. These persons, while not under the same ownership or management, are interrelated and arranged for the transshipment of items subject to the EAR to end-users associated with the government of Syria and knowingly engaged in violations of U.S. export control laws. Three of the persons, Kinglead Electronics Co., Ltd., Alpha Lam, and BVI Electronics, are listed under addresses in both Hong Kong and China. These three additional addresses account for the twenty-ninth, thirtieth and thirty-first entries for the twenty-six persons being added to the Entity List in this rule.

Pursuant to § 744.11(b)(1), (b)(2), and (b)(4) of the EAR, the ERC determined that the conduct of these twenty-six persons raises sufficient concern that prior review of exports, reexports, or transfers (in-country) of items subject to the EAR involving these persons, and the possible imposition of license conditions or license denials on shipments to the persons, will enhance BIS's ability to prevent violations of the EAR.

For the twenty-six persons recommended for addition, the ERC specified a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule.

This final rule adds the following twenty-six persons under thirty-one entries to the Entity List:

China

(1) Alpha Lam, 15H Office Building, Buji Central Plaza, Jihua Road, Buji Longgang, Shenzhen, China (See alternate address under Hong Kong);

(2) BVI Electronics, B28 10/F Nanfang Da Sha, XIDI Ernalu GangZhou, China 511486 (See alternate address under Hong Kong); and

(3) Kinglead Electronics Co., Ltd., a.k.a., the following two aliases:

—Kinglead International Trading, and

—Kinglead Trading. 15H Office Building Buji, Central Plaza, Jihua Road, Buji, Longgang, Shenzhen, China (See alternate address under Hong Kong).

Hong Kong

(1) Alpha Lam, Room 1041 Pacific Trade Center No. 2 Kai Hing Road, Kowloon Bay, Hong Kong (See alternate address under China);

(2) Bing Lu, Room 804 Sino Center, 582-592 Sino Center Road, Hong Kong;

(3) BVI Electronics, G/F Far East FAC Building No. 334-336 Kwun Tong road, Kwun Ton Kowloon, Hong Kong (See alternate address under China);

(4) Kinglead Electronics Co., Ltd., a.k.a., the following two aliases:

—Kinglead International Trading, and

—Kinglead Trading. Room 1041 Pacific Trade Center, No. 2 Kai Hing Road, Kowloon Bay, Hong Kong (See alternate address under China);

(5) JLD Technology, Hong Kong Co., Ltd., Room 1237, Pacific Trade Centre, No. 2 Kai Hing Road, Kowloon Bay, Hong Kong;

(6) Sinovac Technology Limited, Rm 804 Sino Center, 582-592 Sino Center Road, Hong Kong; and

(7) Synergy Express Ltd., Room 1237, Pacific Trade Centre, No. 2 Kai Hing Road, Kowloon Bay, Hong Kong.

Lebanon

(1) al Tawasul al Arabi Net Systems, Beirut, Lebanon (See alternate addresses under U.A.E.);

(2) Husayn Fa'ur, a.k.a., Hussein Faour, Beirut Hadath, Morjan Bldg near Sfeir Bridge, Lebanon (See alternate address under U.A.E.);

(3) New Intelcom,

Manchieh St, Garden Place Blvd., Hariet Hreik, Beirut, Lebanon; and

Al-Hadath, Gallery Semann, Behind KFC, Jordan Bldg, 1st Floor, Beirut, Lebanon;

(4) Power S.A.L., Al-Hadath, Gallery Semann, Behind KFC, Jordan Bldg, 1st Floor, Beirut, Lebanon;

(5) Wave Tech, Riad El Sulh Square, Shaker & Oweini Bldg, 4th Floor, Beirut, Lebanon; and

(6) Zener Lebanon, Beirut Hadath, Morjan Bldg near Sfeir Bridge, Lebanon.

United Arab Emirates

(1) Ahmad Asad Faour, a.k.a., the following one alias:—Ahmad Assad Fa'ur.

Industrial Area 11, 28th St, Wave Tech Bldg, Sharjah, U.A.E.; and

Business Bay, Emirates National Tower, Churchill Bldg, Office 209, Dubai, U.A.E.; and

P.O. Box 25187, Sharjah, U.A.E.;

(2) al Ajwa al Tiqniah Telecommunications Wire and Wireless Devices, P.O. Box 3421, Sharjah, U.A.E.;

(3) al Tawasul al Arabi Net Systems,

al Tawasul Building, Industrial Area 11, Sharjah, U.A.E.; and

P.O. Box 25187, Sharjah, U.A.E. (See alternate address under Lebanon);

(4) Girish Purushothama,

P.O. Box 389, Dubai, U.A.E.; and

P.O. Box 3905, Abu Dhabi, U.A.E.; and

Plot S20206, Dubai, U.A.E.;

(5) Husayn Fa'ur, a.k.a., the following one alias:—Hussein Faour. Industrial Area 11, 28th St, Wave Tech Bldg, Sharjah, U.A.E. (See alternate address under Lebanon);

(6) Ivan Desouza a.k.a., Ivan D'Souza,

P.O. Box 389, Dubai, U.A.E.; and

P.O. Box 3905, Abu Dhabi, U.A.E.; and

Plot S20206, Dubai, U.A.E.;

(7) Source Com,

Sharjah Airport, SAIF Zone P6 Area 191, Sharjah, U.A.E.; and

P.O. Box 120291, Sharjah, U.A.E.;

(8) Taha Mansur, a.k.a., the following one alias:—Taha Mansour.

P.O. Box 389, Dubai, U.A.E.; and

Al Quoz Warehouse, Dubai, U.A.E.;

(9) Wave Tech Computers,

Industrial Area 11, 28th St, Wave Tech Bldg, Sharjah, U.A.E.; and

P.O. Box 3421, Sharjah, U.A.E.;

(10) Wave Tech Group,

Business Bay, Emirates National Tower, Churchill Bldg, Office 209, Dubai, U.A.E.; and

P.O. Box 30686, Dubai, U.A.E.;

(11) Zener Electrical & Electronics,

P.O. Box 389, Dubai, U.A.E.; and

P.O. Box 3905, Abu Dhabi, U.A.E.; and

Zener Electrical & Electronics Service Building, Liwa Street, Umm al Nar area, Abu Dhabi, U.A.E.;

(12) Zener Electronics Services,

Al Sharafi Building, Khalid bin Walid Rd, Dubai, U.A.E.; and

P.O. Box 389, Dubai, U.A.E.; and

P.O. Box 3905, Abu Dhabi, U.A.E.; and

Plot S20206, Dubai, U.A.E.;

(13) Zener Marine,

P.O. Box 389, Dubai, U.A.E.; and

Al Quoz Warehouse, Dubai, U.A.E.;

(14) Zener Navcom,

P.O. Box 389, Dubai, U.A.E.; and

P.O. Box 3905, Abu Dhabi, U.A.E.; and

Plot S20206, Dubai, U.A.E.; and

(15) Zener One Net, P.O. Box 389, Dubai, U.A.E.

Updated Statement of Legal Authority for the EAR

In addition to the Entity List changes described above, this final rule also updates the authority for part 730 (15 CFR part 730) because of the publication of the Notice of May 7, 2014, Continuation of the National Emergency With Respect to the Actions of the Government of Syria, 79 FR 26589 (May 9, 2014), which resulted in a change to the legal authority for part 730 of the EAR. This change is purely procedural and makes no changes other than to revise the CFR authority paragraph in part 730 for the purpose of making the authority citations current. It does not change the text of any section of part 730, nor does it alter any right, obligation or prohibition that applies to any person under the EAR.

Savings Clause

Shipments of items removed from eligibility for a License Exception or export or reexport without a license (NLR) as a result of this regulatory action that were en route aboard a carrier to a port of export or reexport, on June 5, 2014, pursuant to actual orders for export or reexport to a foreign destination, may proceed to that destination under the previous eligibility for a License Exception or export or reexport without a license (NLR).

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 8, 2013, 78, 2013, 78 FR 49107 (August 12, 2013), has continued the Export Administration Regulations in effect under the International Emergency Economic Powers Act. BIS continues to carry out the provisions of the Export Administration Act, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List if a proposed rule is published, doing so would create an incentive for these persons to either accelerate receiving items subject to the EAR to conduct activities that are contrary to the national security or foreign policy interests of the United States, or to take steps to set up additional aliases, change addresses, and effect other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

5. For the updated statement of legal authority for the EAR change, the Department finds that there is good cause under 5 U.S.C. 553(b)(3)(B) to waive the provisions of the Administrative Procedure Act requiring prior notice and the opportunity for public comment because they are unnecessary. This change only updates the legal authority citation for part 730. It clarifies information and is non-discretionary. This change does not alter any right, obligation or prohibition that applies to any person under the EAR. Because this revision is not a substantive change, it is unnecessary to provide notice and opportunity for public comment. In addition, the 30-day delay in effectiveness required by 5 U.S.C. 553(d) is not applicable because this change is not substantive. Because neither the Administrative Procedure Act nor any other law requires that notice of proposed rulemaking and an opportunity for public comment be given for this rule, the analytical requirements of the Regulatory Flexibility Act (5 U.S.C. 601 et seq.) are not applicable.

List of Subjects

15 CFR Part 730

Administrative practice and procedure, Advisory committees, Exports, Reporting and recordkeeping requirements, Strategic and critical materials.

15 CFR Part 744

Exports, Reporting and recordkeeping requirements, Terrorism.

Accordingly, parts 730 and 744 of the Export Administration Regulations (15 CFR parts 730-774) are amended as follows:

PART 730—[AMENDED]

1. The authority citation for 15 CFR part 730 is revised to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; E.O. 13338, 69 FR 26751, 3 CFR, 2004 Comp., p 168; E.O. 13637 of March 8, 2013, 78 FR 16129 (March 13, 2013); Notice of August 8, 2013, 78 FR 49107 (August 12, 2013); Notice of September 18, 2013, 78 FR 58151 (September 20, 2013); Notice of November 7, 2013, 78 FR 67289 (November 12, 2013); Notice of January 21, 2014, 79 FR 3721 (January 22, 2014); Notice of May 7, 2014, 79 FR 26589 (May 9, 2014).

PART 744—[AMENDED]

2. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2013, 78 FR 49107 (August 12, 2013); Notice of September 18, 2013, 78 FR 58151 (September 20, 2013); Notice of November 7, 2013, 78 FR 67289 (November 12, 2013); Notice of January 21, 2014, 79 FR 3721 (January 22, 2014).

3. Supplement No. 4 to part 744 is amended:

a. By adding under China, People's Republic of, in alphabetical order, three Chinese entities;

b. By adding under Hong Kong, in alphabetical order, seven Hong Kong entities;

c. By adding under Lebanon, in alphabetical order, six Lebanese entities; and

d. By adding under United Arab Emirates, in alphabetical order, fifteen Emirati entities.

The additions read as follows:

Supplement No. 4 to Part 744—Entity List
Country | Entity | License requirement | License review policy | Federal Register citation
* * * * * * *
CHINA, PEOPLE'S REPUBLIC OF | * * * * * *
| Alpha Lam, 15H Office Building, Buji Central Plaza, Jihua Road, Buji Longgang, Shenzhen, China (See alternate address under Hong Kong). | For all items subject to the EAR. (See § 744.11 of the EAR). | Presumption of denial | 79 FR [INSERT FR PAGE NUMBER] 6/5/14.
| * * * * * *
| BVI Electronics, B28 10/F Nanfang Da Sha, XIDI Ernalu GangZhou, China 511486 (See alternate address under Hong Kong). | For all items subject to the EAR. (See § 744.11 of the EAR). | Presumption of denial | 79 FR [INSERT FR PAGE NUMBER] 6/5/14.
| * * * * * *
| Kinglead Electronics Co., Ltd., a.k.a., the following two aliases: —Kinglead International Trading, and —Kinglead Trading. 15H Office Building Buji, Central Plaza, Jihua Road, Buji, Longgang, Shenzhen, China (See alternate address under Hong Kong). | For all items subject to the EAR. (See § 744.11 of the EAR). | Presumption of denial | 79 FR [INSERT FR PAGE NUMBER] 6/5/14.
* * * * * * *
HONG KONG | * * * * * *
| Alpha Lam, Room 1041 Pacific Trade Center No. 2 Kai Hing Road, Kowloon Bay, Hong Kong (See alternate address under China). | For all items subject to the EAR. (See § 744.11 of the EAR). | Presumption of denial | 79 FR [INSERT FR PAGE NUMBER] 6/5/14.
| * * * * * *
| Bing Lu, Room 804 Sino Center, 582-592 Sino Center Road, Hong Kong. | For all items subject to the EAR. (See § 744.11 of the EAR). | Presumption of denial | 79 FR [INSERT FR PAGE NUMBER] 6/5/14.
| * * * * * *
| BVI Electronics, G/F Far East FAC Building No. 334-336 Kwun Tong road, Kwun Ton Kowloon, Hong Kong (See alternate address under China). | For all items subject to the EAR. (See § 744.11 of the EAR). | Presumption of denial | 79 FR [INSERT FR PAGE NUMBER] 6/5/14.
| * * * * * *
| Kinglead Electronics Co., Ltd., a.k.a., the following two aliases: —Kinglead International Trading, and —Kinglead Trading. Room 1041 Pacific Trade Center, No. 2 Kai Hing Road, Kowloon Bay, Hong Kong (See alternate address under China). | For all items subject to the EAR. (See § 744.11 of the EAR). | Presumption of denial | 79 FR [INSERT FR PAGE NUMBER] 6/5/14.
| * * * * * *
| JLD Technology, Hong Kong Co., Ltd., Room 1237, Pacific Trade Centre, No. 2 Kai Hing Road, Kowloon Bay, Hong Kong. | For all items subject to the EAR. (See § 744.11 of the EAR). | Presumption of denial | 79 FR [INSERT FR PAGE NUMBER] 6/5/14.
| * * * * * *
| Sinovac Technology Limited, Rm 804 Sino Center, 582-592 Sino Center Road, Hong Kong. | For all items subject to the EAR. (See § 744.11 of the EAR). | Presumption of denial | 79 FR [INSERT FR PAGE NUMBER] 6/5/14.
| * * * * * *
| Synergy Express Ltd., Room 1237, Pacific Trade Centre, No. 2 Kai Hing Road, Kowloon Bay, Hong Kong. | For all items subject to the EAR. (See § 744.11 of the EAR). | Presumption of denial | 79 FR [INSERT FR PAGE NUMBER] 6/5/14.
* * * * * * *
LEBANON | al Tawasul al Arabi Net Systems, Beirut, Lebanon (See alternate addresses under U.A.E.). | For all items subject to the EAR. (See § 744.11 of the EAR). | Presumption of denial | 79 FR [INSERT FR PAGE NUMBER] 6/5/14.
| * * * * * *
| Husayn Fa'ur, a.k.a., the following one alias: —Hussein Faour. Beirut Hadath, Morjan Bldg near Sfeir Bridge, Lebanon (See alternate address under U.A.E.). | For all items subject to the EAR. (See § 744.11 of the EAR). | Presumption of denial | 79 FR [INSERT FR PAGE NUMBER] 6/5/14.
| * * * * * *
| New Intelcom, Manchieh St, Garden Place Blvd, Hariet Hreik, Beirut, Lebanon; and Al-Hadath, Gallery Semann, Behind KFC, Jordan Bldg, 1st Floor, Beirut, Lebanon. | For all items subject to the EAR. (See § 744.11 of the EAR). | Presumption of denial | 79 FR [INSERT FR PAGE NUMBER] 6/5/14.
| Power S.A.L., Al-Hadath, Gallery Semann, Behind KFC, Jordan Bldg, 1st Floor, Beirut, Lebanon. | For all items subject to the EAR. (See § 744.11 of the EAR). | Presumption of denial | 79 FR [INSERT FR PAGE NUMBER] 6/5/14.
| * * * * * *
| Wave Tech, Riad El Sulh Square, Shaker & Oweini Bldg, 4th Floor, Beirut, Lebanon. | For all items subject to the EAR. (See § 744.11 of the EAR). | Presumption of denial | 79 FR [INSERT FR PAGE NUMBER] 6/5/14.
| Zener Lebanon, Beirut Hadath, Morjan Bldg near Sfeir Bridge, Lebanon. | For all items subject to the EAR. (See § 744.11 of the EAR). | Presumption of denial | 79 FR [INSERT FR PAGE NUMBER] 6/5/14.
* * * * * * *
UNITED ARAB EMIRATES
| * * * * * *
| Ahmad Asad Faour, a.k.a., the following one alias: —Ahmad Assad Fa'ur. Industrial Area 11, 28th St, Wave Tech Bldg, Sharjah, U.A.E.; and Business Bay, Emirates National Tower, Churchill Bldg, Office 209, Dubai, U.A.E.; and P.O. Box 25187, Sharjah, U.A.E. | For all items subject to the EAR. (See § 744.11 of the EAR). | Presumption of denial | 79 FR [INSERT FR PAGE NUMBER] 6/5/14.
| al Ajwa al Tiqniah Telecommunications Wire and Wireless Devices, P.O. Box 3421, Sharjah, U.A.E. | For all items subject to the EAR. (See § 744.11 of the EAR). | Presumption of denial | 79 FR [INSERT FR PAGE NUMBER] 6/5/14.
| * * * * * *
| al Tawasul al Arabi Net Systems, al Tawasul Building, Industrial Area 11, Sharjah, U.A.E.; and P.O. Box 25187, Sharjah, U.A.E. (See alternate address under Lebanon). | For all items subject to the EAR. (See § 744.11 of the EAR). | Presumption of denial | 79 FR [INSERT FR PAGE NUMBER] 6/5/14.
| * * * * * *
| Girish Purushothama, P.O. Box 389, Dubai, U.A.E.; and P.O. Box 3905, Abu Dhabi, U.A.E.; and Plot S20206, Dubai, U.A.E. | For all items subject to the EAR. (See § 744.11 of the EAR). | Presumption of denial | 79 FR [INSERT FR PAGE NUMBER] 6/5/14.
| * * * * * *
| Husayn Fa'ur, a.k.a., the following one alias: —Hussein Faour. Beirut Hadath, Morjan Bldg near Sfeir Bridge, Lebanon; and Industrial Area 11, 28th St, Wave Tech Bldg, Sharjah, U.A.E. (See alternate address under Lebanon). | For all items subject to the EAR. (See § 744.11 of the EAR). | Presumption of denial | 79 FR [INSERT FR PAGE NUMBER] 6/5/14.
| * * * * * *
| Ivan Desouza, a.k.a., the following one alias: —Ivan D'Souza. P.O. Box 389, Dubai, U.A.E.; and P.O. Box 3905, Abu Dhabi, U.A.E.; and Plot S20206, Dubai, U.A.E. | For all items subject to the EAR. (See § 744.11 of the EAR). | Presumption of denial | 79 FR [INSERT FR PAGE NUMBER] 6/5/14.
| * * * * * *
| Source Com, Sharjah Airport, SAIF Zone P6 Area 191, Sharjah, U.A.E.; and P.O. Box 120291, Sharjah, U.A.E. | For all items subject to the EAR. (See § 744.11 of the EAR). | Presumption of denial | 79 FR [INSERT FR PAGE NUMBER] 6/5/14.
| * * * * * *
| Taha Mansur, a.k.a., the following one alias: —Taha Mansour. P.O. Box 389, Dubai, U.A.E.; and Al Quoz Warehouse, Dubai, U.A.E. | For all items subject to the EAR. (See § 744.11 of the EAR). | Presumption of denial | 79 FR [INSERT FR PAGE NUMBER] 6/5/14.
| * * * * * *
| Wave Tech Computers, Industrial Area 11, 28th St, Wave Tech Bldg, Sharjah, U.A.E.; and P.O. Box 3421, Sharjah, U.A.E. | For all items subject to the EAR. (See § 744.11 of the EAR). | Presumption of denial | 79 FR [INSERT FR PAGE NUMBER] 6/5/14.
| Wave Tech Group, Business Bay, Emirates National Tower, Churchill Bldg, Office 209, Dubai, U.A.E.; and P.O. Box 30686, Dubai, U.A.E. | For all items subject to the EAR. (See § 744.11 of the EAR). | Presumption of denial | 79 FR [INSERT FR PAGE NUMBER] 6/5/14.
| Zener Electrical & Electronics, P.O. Box 389, Dubai, U.A.E.; and P.O. Box 3905, Abu Dhabi, U.A.E.; and Zener Electrical & Electronics Service Building, Liwa Street, Umm al Nar area, Abu Dhabi, U.A.E. | For all items subject to the EAR. (See § 744.11 of the EAR). | Presumption of denial | 79 FR [INSERT FR PAGE NUMBER] 6/5/14.
| Zener Electronics Services, Al Sharafi Building, Khalid bin Walid Rd, Dubai, U.A.E.; and P.O. Box 389, Dubai, U.A.E.; and P.O. Box 3905, Abu Dhabi, U.A.E.; and Plot S20206, Dubai, U.A.E. | For all items subject to the EAR. (See § 744.11 of the EAR). | Presumption of denial | 79 FR [INSERT FR PAGE NUMBER] 6/5/14.
| Zener Marine, P.O. Box 389, Dubai, U.A.E.; and Al Quoz Warehouse, Dubai, U.A.E. | For all items subject to the EAR. (See § 744.11 of the EAR). | Presumption of denial | 79 FR [INSERT FR PAGE NUMBER] 6/5/14.
| Zener Navcom, P.O. Box 389, Dubai, U.A.E.; and P.O. Box 3905, Abu Dhabi, U.A.E.; and Plot S20206, Dubai, U.A.E. | For all items subject to the EAR. (See § 744.11 of the EAR). | Presumption of denial | 79 FR [INSERT FR PAGE NUMBER] 6/5/14.
| Zener One Net, P.O. Box 389, Dubai, U.A.E. | For all items subject to the EAR. (See § 744.11 of the EAR). | Presumption of denial | 79 FR [INSERT FR PAGE NUMBER] 6/5/14.
* * * * * * *

Dated: May 30, 2014.
Matthew S. Borman,
Deputy Assistant Secretary for Export Administration.

[FR Doc. 2014-13149 Filed 6-4-14; 8:45 am]

BILLING CODE 3510-33-P